DEPARTMENT OF COMMERCE

National Oceanic and Atmospheric Administration

50 CFR Part 648

[I.D. 010703A]

New England Fishery Management Council; Public Meeting

AGENCY: National Marine Fisheries Service (NMFS), National Oceanic and Atmospheric Administration (NOAA), Commerce.

ACTION: Public meeting.

SUMMARY: The New England Fishery Management Council (Council) will hold a 3-day Council meeting on January 28, 29, and 30, 2003, to consider actions affecting New England fisheries in the U.S. exclusive economic zone (EEZ).

DATES: The meeting will be held on Tuesday, Wednesday, and Thursday January 28, 29, and 30, 2003. The meeting will begin at 9:00 a.m. on Tuesday and 8:30 a.m. on Wednesday and Thursday.

ADDRESSES: The meeting will be held at the Marriott Courtyard, 1000 Market Street, Portsmouth, NH 03801; telephone (603) 436-2121. Requests for special accommodations should be addressed to the New England Fishery Management Council, 50 Water Street, Mill 2, Newburyport, MA 01950; telephone (978) 465-0492.

FOR FURTHER INFORMATION CONTACT: Paul J. Howard, Executive Director, New England Fishery Management Council, (978) 465-0492.

SUPPLEMENTARY INFORMATION:

Tuesday, January 28, 2003

Following introductions, there will be a public review workshop held to discuss the results of the 36th Northeast Regional Stock Assessment Workshop (SAW). Species to be reviewed include yellowtail flounder, winter flounder, northern shrimp, and striped bass. At the conclusion of the SAW presentation, the Transboundary Management Guidance Committee will brief the Council on its December 17-18, 2002, meeting on the U.S./Canada Resource Sharing Agreement discussions. The Groundfish Committee will report following a lunch break. Items to be covered include review of the time line for development of Amendment 13 to the Northeast Multispecies Fishery Management Plan (FMP), including a discussion of analytic and peer review requirements necessary to complete the amendment; implications of considering different rebuilding periods, alternatives that should be analyzed under different rebuilding time periods, and possible elimination of alternatives from further consideration; development of a recommendation to NOAA Fisheries for implementation of a DAS leasing program to be implemented prior to the adoption of Amendment 13 and preliminary discussion of measures to implement the U.S./Canada Resource Sharing Agreement. The Council also has scheduled a scoping meeting for Amendment 2 to the Spiny Dogfish FMP on Tuesday January 28 at 7 p.m.

Wednesday, January 29, 2003

The Scallop Committee will review and seek approval of the Draft Supplemental Environmental Impact Statement (SEIS) for Amendment 10 to the Atlantic Sea Scallop FMP. Issues to be considered include: an area rotation system and access to the Georges Bank groundfish closed areas; measures to minimize habitat and bycatch impacts; changes to the framework adjustment process, as well as day-at-sea adjustments and other changes to the plan as required. Interim measures to access the Georges Bank areas and closed areas elsewhere in 2004 also will be included. Following approval of this document, the Council will schedule a series of public hearings to seek public comments on the draft Amendment 10 alternatives and the associated SEIS.

Thursday, January 30, 2003

The meeting will reconvene with reports on recent activities from the Council Chairman and Executive Director, the NMFS Regional Administrator, Northeast Fisheries Science Center and Mid-Atlantic Fishery Management Council liaisons, NOAA General Counsel and representatives of the U.S. Coast Guard, NMFS Enforcement and the Atlantic States Marine Fisheries Commission. This will be followed by a brief public comment period during which any member of the public may bring forward items relevant to Council business but not otherwise listed on the agenda for this meeting. The NOAA Fisheries Regional Administrator will then conduct a formal consultation with the Council on the American Lobster FMP, providing members with an opportunity to comment on regulations, both proposed and future, developed by the Atlantic States Marine Fisheries Commission. The Whiting Committee will ask for approval of final action on Framework Adjustment 38 to the Northeast Multispecies FMP (whiting, red hake, and offshore hake). Measures include the establishment of an exempted grate raised footrope trawl fishery in the inshore Gulf of Maine, with specifications for a season, fishing area, mesh size, gear restrictions, whiting possession limits, and other incidental catch limits. The Council also will consider a new control date to determine future participation in the small mesh multispecies fishery. Before adjourning for the day, the Council is expected to approve final Northeast Skate Complex FMP submission documents, including a description of management measures, draft regulations, and a summary of impacts. The FMP includes permit and reporting requirements; prohibitions on the possession of barndoor skate, thorny skate, and smooth skate in the Gulf of Maine and a possession limit for the skate wing fishery.

Although other non-emergency issues not contained in this agenda may come before this Council for discussion, those issues may not be the subjects of formal action during this meeting. Council action will be restricted to those issues specifically listed in this notice and any issues arising after publication of this notice that require emergency action under section 305(c) of the Magnuson-Stevens Fishery Conservation and Management Act, provided that the public has been notified of the Council's intent to take final action to address the emergency.

Special Accommodations

This meeting is physically accessible to people with disabilities. Requests for sign language interpretation or other auxiliary aids should be directed to Paul J. Howard (see ADDRESSES) at least 5 days prior to the meeting date.

Dated: January 7, 2003.
Bruce C. Morehead,
Acting Director, Office of Sustainable Fisheries, National Marine Fisheries Service.

[FR Doc. 03-635 Filed 1-10-03; 8:45 am]

BILLING CODE 3510-22-S